DEPARTMENT OF THE INTERIOR

Bureau of Land Management

[LLWY-957400-11-L14200000-BJ0000]

Filing of Plats of Survey, Wyoming and Nebraska

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management and U.S. Forest Service, and are necessary for the management of resources. The lands surveyed are:

The plat and field notes representing the dependent resurvey of a portion of the north boundary and subdivisional lines and the survey of the subdivision of certain sections, Township 31 North, Range 48 West, Sixth Principal Meridian, Nebraska, Group No. 167, was accepted November 4, 2010.

The supplemental plat correcting the measurements between sections 27 and 28, and the areas of the lots, Township 51 North, Range 73 West, Sixth Principal Meridian, Wyoming, Group No. 832, was accepted November 29, 2010.

The plat and field notes representing the dependent resurvey of a portion of the north and west boundaries, and the subdivisional lines, Township 21 North, Range 95 West, Sixth Principal Meridian, Wyoming, Group No. 809, was accepted January 18, 2011.

The plat and field notes representing the retracement of a portion of the Wyoming-Colorado State Boundary, through Range 91 West, and the dependent resurvey of a portion of the subdivisional lines, and the subdivision of Section 17, Township 12 North, Range 91 West, Sixth Principal Meridian, Wyoming, Group No. 810, was accepted January 18, 2011.

The plat and field notes representing the retracement of a portion of the Wyoming-Colorado State Boundary, through Range 90 West, and the dependent resurvey of a portion of the subdivisional lines, and the subdivision of section 15, Township 12 North, Range 90 West, Sixth Principal Meridian, Wyoming, Group No. 811, was accepted January 18, 2011.

The plat and field notes representing the dependent resurvey of a portion of the east boundary, a portion of the subdivisional lines, and the subdivision of sections 13 and 14, Township 32 North, Range 114 West, Sixth Principal Meridian, Wyoming, Group No. 815, was accepted February 24, 2011.

The plat and field notes representing the dependent resurvey of a portion of the west boundary and a portion of the subdivisional lines, and the subdivision of section 7, Township 28 North, Range 76 West, Sixth Principal Meridian, Wyoming, Group No. 818, was accepted February 24, 2011.

The plat and field notes representing the dependent resurvey of a portion of the south boundary, portions of the subdivisional lines, subdivision of Section 34, and the metes-and-bounds survey of Lot 2, Section 34, Township 16 North, Range 118 West, Sixth Principal Meridian, Wyoming, Group No. 819, was accepted February 24, 2011.

The plat and field notes representing the corrective dependent resurvey of a portion of the subdivisional lines and a portion of the subdivision of sections 24 and 25, Township 49 North, Range 63 West, Sixth Principal Meridian, Wyoming, Group No. 829, was accepted February 24, 2011.

The supplemental plat revising the westerly boundary of parcel G, section 10, surveyed under Group No. 716, to form Parcel H, section 10, Township 1 South, Range 1 West, Wind River Meridian, Wyoming, Group No. 835, was accepted February 24, 2011.

Copies of the preceding described plats and field notes are available to the public at a cost of $1.10 per page.

Dated: March 8, 2011.
John P. Lee,
Chief Cadastral Surveyor, Division of Support Services.

[FR Doc. 2011-5769 Filed 3-11-11; 8:45 am]

BILLING CODE 4310-22-P